PENSION BENEFIT GUARANTY CORPORATION

29 CFR Parts 4000, 4041A, and 4281

RIN 1212-AB28

Multiemployer Plans; Electronic Filing Requirements; Correction

AGENCY: Pension Benefit Guaranty Corporation.

ACTION: Final rule; correction.

SUMMARY: The Pension Benefit Guaranty Corporation (PBGC) published in the Federal Register of September 17, 2015 (80 FR 55742) a final rule to amend its regulations to require electronic filing of certain multiemployer notices. This document corrects two inadvertent errors in the amendatory language.

DATES: Effective October 19, 2015.

FOR FURTHER INFORMATION CONTACT: Catherine B. Klion (klion.catherine@pbgc.gov), Assistant General Counsel for Regulatory Affairs, or Donald McCabe (mccabe.donald@pbgc.gov), Attorney, Office of the General Counsel, Pension Benefit Guaranty Corporation, 1200 K Street NW., Washington, DC 20005-4026; 202-326-4024. (TTY/TDD users may call the Federal relay service toll-free at 1-800-877-8339 and ask to be connected to 202-326-4024.)

SUPPLEMENTARY INFORMATION:

Correction

The following corrections are made to FR Doc. 2015-23361, published at page 55742 in the issue of September 17, 2015 (80 FR 55742):

1. On page 55745, column 2, amendatory instruction 2 and its amendatory text are corrected to read as follows:

2. In § 4000.3, add paragraph (b)(4) to read as follows:

§ 4000.3 What methods of filing may I use?

* * * * *

(b) * * *

(4) When making filings to PBGC under parts 4041A, 4245, and 4281 of this chapter (except for notices of benefit reductions and notices of restoration of benefits under part 4281), you must submit the information required under these parts electronically in accordance with the instructions on the PBGC's Web site, except as otherwise provided by the PBGC.

* * * * *

§ 4281.3 [Corrected]

2. On page 55745, column 2, instruction 7, in revised paragraph (b), “4281.43(e)” is corrected to read “4281.43(c)”.

Issued in Washington, DC, this 21st day of September 2015.
Catherine B. Klion,
Assistant General Counsel for Regulatory Affairs, Office of the General Counsel.

[FR Doc. 2015-24343 Filed 9-24-15; 8:45 am]

BILLING CODE 7709-02-P